FEDERAL COMMUNICATIONS COMMISSION

47 CFR Part 73

[MB Docket No. 20-428; RM-11870; DA 21-268; FR ID 17580]

Television Broadcasting Services; Columbia, Missouri

AGENCY: Federal Communications Commission.

ACTION: Final rule.

SUMMARY: On March 4, 2021, the Media Bureau, Video Division (Bureau) issued a Notice of Proposed Rulemaking in response to a petition for rulemaking filed by The Curators of the University of Missouri (University), the licensee of KOMU-TV, channel 8 (NBC/CW), Columbia, Missouri, requesting the substitution of channel 27 for channel 8 at Columbia in the DTV Table of Allotments. For the reasons set forth in the Report and Order referenced below, the Bureau substitutes channel 27 for channel 8 at Columbia.

DATES: Effective April 12, 2021.

FOR FURTHER INFORMATION CONTACT: Joyce Bernstein, Media Bureau, at (202) 418-1647 or Joyce.Bernstein@fcc.gov.

SUPPLEMENTARY INFORMATION: The University filed comments in support of the petition reaffirming its commitment to applying for channel 27. The Bureau believes the public interest would be served by the substitution and will permit KOMU-TV to better serve its viewers, who have experienced reception problems with VHF channel 8.

This is a synopsis of the Commission's Report and Order, MB Docket No. 20-428; RM-11870; DA 21-268, adopted March 4, 2021, and released March 4, 2021. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional review Act, see 5 U.S.C. 801(a)(1)(A).

List of Subjects in 47 CFR Part 73

Television.

Federal Communications Commission.
Thomas Horan.
Chief of Staff, Media Bureau.

Final Rule

For the reasons discussed in the preamble, the Federal Communications Commission amends 47 CFR part 73 as follows:

PART 73—RADIO BROADCAST SERVICE

1. The authority citation for part 73 continues to read as follows:

Authority: 47 U.S.C. 154, 155, 301, 303, 307, 309, 310, 334, 336, and 339.

§ 73.622 Digital television table of allotments.

2. In § 73.622 in paragraph (i), amend the Post-Transition Table of DTV Allotments, under Missouri, by revising the entry for Columbia to read as follows:

* * * * *

(i) * * *

Community | Channel No.
* * * * *
MISSOURI
* * * * *
Columbia | 17, 27
* * * * *

[FR Doc. 2021-06391 Filed 4-9-21; 8:45 am]

BILLING CODE 6712-01-P